DEPARTMENT OF LABOR

Employment and Training Administration

[TA-W-59,904]

Hartz & Company, Inc., HL Hartz and Sons, Frederick, Maryland; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility To Apply for Worker Adjustment Assistance and Alternative Trade Adjustment Assistance on September 11, 2006, applicable to workers of Hartz & Company, Inc., Frederick, Maryland. The notice was published in the Federal Register on September 26, 2006 (71 FR 56170-56171).

At the request of the State agency, the Department reviewed the certification for workers of the subject firm. The workers produced men's and women's suits and bottoms.

The review of the file showed that wages for some of the workers of the subject firm were reported to the Unemployment Insurance (UI) tax account for HL Hartz and Sons.

The intent of the certification is to provide coverage to all workers of the subject firm impacted by increased imports. Accordingly, the Department is amending the certification to include workers of the firm whose wages are paid by HL Hartz and Sons.

The amended notice applicable to TA-W-59,904 is hereby issued as follows:

All workers of Hartz & Company, Inc., HL Hartz and Sons, Frederick, Maryland, who became totally or partially separated from employment on or after August 14, 2005 through September 11, 2008, are eligible to apply for adjustment assistance under section 223 of the Trade Act of 1974, and are also eligible to apply for alternative trade adjustment assistance under section 246 of the Trade Act of 1974.

Signed in Washington, DC, this 4th day of October 2006.
Elliott S. Kushner,
Certifying Officer, Division of Trade Adjustment Assistance.

[FR Doc. E6-17109 Filed 10-13-06; 8:45 am]

BILLING CODE 4510-30-P